NATIONAL SCIENCE FOUNDATION

Advisory Committee for Geosciences; Notice of Meeting

In accordance with the Federal Advisory Committee Act (Pub. L. 92-463, as amended), the National Science Foundation announces the following meeting:

Name: Advisory Committee for Geosciences (1755).

Dates April 17-18, 2001.

Time: 8:30 a.m.-5:30 p.m. Tuesday, April 17 and 8:30 a.m.-3 p.m. Wednesday, April 18.

Place: Room 1235, National Science Foundation, 4201 Wilson Blvd., Arlington, VA.

Type of Meeting: Open.

Contact Person: Dr. Thomas Spence, Directorate for Geosciences, National Science Foundation, Suite 705, 4201 Wilson Boulevard, Arlington, Virginia 22230, Phone 703-292-8500.

Minutes: May be obtained from the contact person listed above.

Purpose of Meeting: To provide advice, recommendations, and oversight concerning support for research, education, and human resources development in the geosciences.

Agenda

Day 1: Opening and agenda

GPRA

Divisional Subcommittee Meetings

Discussion of directorate activities and future plans

Day 2: GEO Education, Human Resources and Diversity Directorate activities and plans

Dated: March 13, 2001.
Susanne Bolton,
Committee Management Officer.

[FR Doc. 01-6588 Filed 3-15-01; 8:45 am]

BILLING CODE 7555-01-M